DEPARTMENT OF COMMERCE

National Oceanic and Atmospheric Administration

50 CFR Part 665

[Docket No. 071211828-8448-02]

RIN 0648-XG90

Fisheries in the Western Pacific; Bottomfish and Seamount Groundfish Fisheries; Fishery Closure

AGENCY: National Marine Fisheries Service (NMFS), National Oceanic and Atmospheric Administration (NOAA), Commerce.

ACTION: Temporary rule; closure.

SUMMARY: NMFS is closing the commercial and non-commercial fisheries in the Main Hawaiian Islands fishery for seven deepwater bottomfish species (“Deep 7” bottomfish) as a result of reaching the total allowable catch (TAC) for the 2007-08 fishing year.

DATES: Effective April 16, 2008 through August 31, 2008.

FOR FURTHER INFORMATION CONTACT: Karla Gore, NMFS Pacific Islands Region, 808-944-2273.

SUPPLEMENTARY INFORMATION: Bottomfish fishing in Hawaii is managed under the Fishery Management Plan for the Bottomfish and Seamount Groundfish Fisheries of the Western Pacific Region (Bottomfish FMP), developed by the Western Pacific Fishery Management Council (Council) and implemented by NMFS under the authority of the Magnuson-Stevens Fishery Conservation and Management Act. Regulations governing fishing by U.S. vessels in accordance with the Bottomfish FMP appear at 50 CFR part 665 and at subpart H of 50 CFR part 600.

The regulations at § 665.72 authorize NMFS and the Council to set a TAC limit for Deep 7 bottomfish for the fishing year, based on the best available scientific, commercial, and other information, and taking into account the associated risk of overfishing. The Deep 7 bottomfish are onaga (Etelis coruscans), ehu (E. carbunculus), gindai (Pristipomoides zonatus), kalekale (P. sieboldii), opakapaka (P. filamentosus), lehi (Aphareus rutilans), and hapu'upu'u (Epinephelus quernus).

When the TAC limit for the year is projected to be reached, the Regional Administrator is required to publish notification that the fishery will be closed beginning on a specified date (not earlier than 14 days after the date of filing the closure notice for public inspection at the Office of the Federal Register) until the end of the fishing year in which the TAC is reached. During the closure, no person may fish for, possess, or sell any Deep 7 bottomfish in the Main Hawaiian Islands, except as otherwise authorized by law. Specifically, fishing for, and the resultant possession or sale of, Deep 7 bottomfish by vessels legally registered to Mau Zone, Ho omalu Zone, or Pacific Remote Island Areas bottomfish fishing permits, and conducted in compliance with all other laws and regulations, are not affected by this closure. There is no prohibition on fishing for or selling other non-Deep 7 bottomfish species throughout the year.

The TAC for the 2007-08 fishing year was established by the Council at 178,000 lb (80,740 kg) of Deep 7 bottomfish. Progress toward the 2007-08 TAC is monitored using information reported by holders of State of Hawaii commercial marine licenses (State CML) through monthly catch reports submitted to the State. Based on this information, the NMFS Pacific Islands Fisheries Science Center projected that the TAC for the 2007-08 fishing year will be reached on April 17, 2008. In accordance with § 665.72(c), this document serves as a 14 day advance notification to fishermen, the fishing industry, and the general public that the Main Hawaiian Islands Deep 7 bottomfish fishery will be closed from April 17, 2008, through the remainder of the fishing year. The 2008-09 fishing year will begin on September 1, 2008, and the TAC for the 2008-09 fishing year will be published in the Federal Register by August 31, 2008.

This action is required by § 665.72(c) and is exempt from review under Executive Order 12866.

Authority: 16 U.S.C. 1801 et seq.

Dated: April 2, 2008.
Emily H. Menashes,
Acting Director, Office of Sustainable Fisheries, National Marine Fisheries Service.

[FR Doc. 08-1104 Filed 4-2-08; 1:54 pm]

BILLING CODE 3510-22-S